ENVIRONMENTAL PROTECTION AGENCY

[ER-FRL-9060-2]

Environmental Impact Statements; Notice of Availability

Responsible Agency: Office of Federal Activities, General Information 202-564-5632 or https://www.epa.gov/nepa.

Weekly receipt of Environmental Impact Statements (EIS)

Filed December 23, 2021 10 a.m. EST Through January 3, 2022 10 a.m. EST

Pursuant to 40 CFR 1506.9

Notice

Section 309(a) of the Clean Air Act requires that EPA make public its comments on EISs issued by other Federal agencies. EPA's comment letters on EISs are available at: https://cdxnodengn.epa.gov/cdx-enepa-public/action/eis/search.

EIS No. 20220000, Final, NMFS, FL, Final Amendment 53 to the Fishery Management Plan for the Reef Fish Fishery in the Gulf of Mexico, Review Period Ends: 02/07/2022, Contact: Peter Hood 727-551-5728.

EIS No. 20220001, Final, USPS, DC, Next Generation Delivery Vehicle Acquisitions, Review Period Ends: 02/07/2022, Contact: Davon M. Collins 202-268-4570.

EIS No. 20220002, Final, USN, CA, Point Mugu Sea Range, Review Period Ends: 02/07/2022, Contact: Cory Scott 805-989-0927.

EIS No. 20220003, Draft, BLM, UT, Pine Valley Water Supply Project, Comment Period Ends: 02/22/2022, Contact: Brooklynn Cox 435-865-3073.

Amended Notice

EIS No. 20210172, Draft Supplement, BR, CA, Sites Reservoir Project Revised Draft Environmental Impact Report/Supplemental Draft Environmental Impact Statement, Comment Period Ends: 01/28/2022, Contact: Vanessa King 916-978-5077.

Revision to FR Notice Published 11/12/2021; Extending the Comment Period from 01/11/2022 to 01/28/2022.

Dated: January 3, 2022.
Cindy S. Barger,
Director, NEPA Compliance Division, Office of Federal Activities.

[FR Doc. 2022-00082 Filed 1-6-22; 8:45 am]

BILLING CODE 6560-50-P